POSTAL REGULATORY COMMISSION

[Docket Nos. MC2010-19; Order No. 415]

Mail Classification Change

AGENCY: Postal Regulatory Commission.

ACTION: Notice.

SUMMARY: The Commission is noticing a recently-filed Postal Service request to make a minor modification to the Mail Classification Schedule. The change affects a change in terminology. This notice addresses procedural steps associated with this filing.

DATES: Comments are due: March 10, 2010.

ADDRESSES: Submit comments electronically via the Commission's Filing Online system at http://www.prc.gov. Commenters who cannot submit their views electronically should contact the person identified in the For Further information Contact section by telephone for advice on alternatives to electronic filing.

FOR FURTHER INFORMATION CONTACT: Stephen L. Sharfman, General Counsel, 202-789-6820 or stephen.sharfman@prc.gov.

SUPPLEMENTARY INFORMATION: On February 26, 2010, the Postal Service filed a notice with the Commission pursuant to 39 CFR 3020.90 et seq. concerning a change in classification which reflects a change in terminology from Bulk Mailing Center (BMC) to Network Distribution Center (NDC), and revises its regulations to change the terms in Mailing Standards of the United States Postal Service, Domestic Mail Manual (DMM) and other related manuals and publications effective March 15, 2010.¹ The Postal Service states revisions will also be made in its service standard regulations in 39 CFR part 121 to indicate the terminology change from BMC to NDC. The Postal Service states it will concurrently file a notice explaining these changes in the Federal Register. Id. at 1.

¹ Notice of the United States Postal Service of Minor Classification Change, February 26, 2010 (Notice). This notice is available on the Commission's Web site, http://www.prc.gov.

The Postal Service indicates that the original BMC network was established in the 1970s to process mail which now includes Parcel Post, Bound Printed Matter, Media Mail, Standard Mail, and Periodicals. Id. However, variation in volume and changes in the mailing habits of the public and large mailers require modifications to BMC processing and transportation. Id. The Postal Service states in order to maximize its efficiency, changes have been made to mail flow processes through the new NDC network, and it is converting BMCs to NDCs. Id. at 1-2. It notes that as part of the transition to the new NDC concept, only a terminology change is being implemented now and there are no revisions to mailing standards, service standards, or processes as a result of this notice. Id. at 2. The Postal Service states that in the future, it intends to propose changes to the preparation, entry and deposit of mail related to the NDC concept. Id. The Postal Service proposes conforming Mail Classification Schedule language to replace references to the BMC, with references to the NDC.² Id. at 2-3.

² The Postal Service also notes that on August 3, 2009, it changed all of its applicable labeling lists to effectuate the name change from BMC to NDC. It states that mailers were given a 73-day transition period to make the appropriate changes to mailing software applications. Id. at 2.

Pursuant to 39 CFR 3020.92, the Commission provides notice of the Postal Service's filing and affords interested persons an opportunity to express views and offer comments on whether the proposed classification change is inconsistent with 39 U.S.C. 3642. Comments are due March 10, 2010.

Section 3020.91 requires the Postal Service to file notice of the proposed change with the Commission no less than 15 days prior to the effective date of the proposed change. The Notice states that the classification change is to become effective March 15, 2010.

The Commission appoints Paul L. Harrington to serve as Public Representative in this docket.

It is ordered:

1. The Commission establishes Docket No. MC2010-19 for consideration of the matters raised in this docket.

2. Pursuant to 39 U.S.C. 505, Paul L. Harrington is appointed to serve as officer of the Commission (Public Representative) to represent the interests of the general public in these proceedings.

3. Comments by interested persons in this proceeding are due no later than March 10, 2010.

By the Commission.
Shoshana M. Grove,
Secretary.

[FR Doc. 2010-4861 Filed 3-5-10; 8:45 am]

BILLING CODE 7710-FW-S